DEPARTMENT OF THE INTERIOR

National Park Service

Notice of Intent to Repatriate Cultural Items: Peabody Museum of Archaeology and Ethnology, Harvard University, Cambridge, MA

AGENCY: National Park Service, Interior.

ACTION: Notice.

Notice is here given in accordance with the Native American Graves Protection and Repatriation Act (NAGPRA), 43 CFR 10.8 (f), of the intent to repatriate cultural items in the possession of the Peabody Museum of Archaeology and Ethnology, Harvard University, Cambridge, MA, that meet the definition of unassociated funerary objects under 25 U.S.C. 3001.

This notice is published as part of the National Park Service's administrative responsibilities under NAGPRA, 25 U.S.C. 3003 (d)(3). The determinations within this notice are the sole responsibility of the museum, institution, or Federal agency that has control of the cultural items. The National Park Service is not responsible for the determinations within this notice.

The three cultural items are two brass tubes and one string of shell beads.

The two brass tubes were collected by J.V.C. Smith in 1831 from Fall River, Bristol County, MA, and were donated to the Peabody Museum of Archaeology and Ethnology by F. Kneeland in 1886. Museum documentation indicates that the brass tubes were recovered from a grave. The Peabody Museum of Archaeology and Ethnology is not in possession of the human remains from this burial.

The interment most likely dates to the Historic/Contact period (post-A.D. 1500). According to the Peabody Museum Annual Report of 1887, the human remains from this grave site were wrapped in several layers of braided or woven bark-cloth with an outer layer of cedar bark. Woven mats and bark were commonly used in Wampanoag burials during the Late Woodland period and later (post-A.D. 1000). Sheet brass and brass objects were European trade items, and therefore indicate a postcontact temporal context.

At an unknown date, a string of shell beads was recovered from a grave site in Bridgewater, Plymouth County, MA. The string of shell beads was donated to the Peabody Museum of Archaeology and Ethnology in 1899 by H.W. Hatch. The Peabody Museum of Archaeology and Ethnology is not in possession of the human remains from this burial.

The interment most likely dates to the Historic/Contact period (post-A.D. 1500). According to museum documentation, the shell beads were found with “porcelain beads,” which are not in the possession of the Peabody Museum of Archaeology and Ethnology. True porcelain beads do not appear in historic contexts until the 19th century, although beads made from money cowry shell (C. moneta) were called “porcelain,” and were imported and traded by Europeans before this time. Even if these beads are of white glass rather than shell, glass beads were introduced by Europeans as trade items in the 17th century, and would also support a postcontact date.

Oral tradition and historical documentation indicate that Fall River and Bridgewater, MA, are within the aboriginal and historic homeland of the Wampanoag Nation. The present-day Indian tribe and groups that are most closely affiliated with the Wampanoag Nation are the Wampanoag Tribe of Gay Head (Aquinnah) of Massachusetts, Mashpee Wampanoag Indian Tribe (a nonfederally recognized Indian group), and Assonet Band of the Wampanoag Nation Tribe (a nonfederally recognized Indian group).

Officials of the Peabody Museum of Archaeology and Ethnology have determined that, pursuant to 25 U.S.C. 3001 (3)(B), the cultural items are reasonably believed to have been placed with or near individual human remains at the time of death or later as part of the death rite or ceremony and are believed, by a preponderance of the evidence, to have been removed from a specific burial site of an Native American individual. Officials of the Peabody Museum of Archaeology and Ethnology also have determined that, pursuant to 25 U.S.C. 3001 (2), there is a relationship of shared group identity that can be reasonably traced between the unassociated funerary objects and the Wampanoag Tribe of Gay Head (Aquinnah) of Massachusetts, and that there is a cultural relationship between the unassociated funerary objects and Mashpee Wampanoag Indian Tribe (a nonfederally recognized Indian group) and Assonet Band of the Wampanoag Nation (a nonfederally recognized Indian group).

Representatives of any other Indian tribe that believes itself to be culturally affiliated with the unassociated funerary objects should contact Patricia Capone, Repatriation Coordinator, Peabody Museum of Archaeology and Ethnology, Harvard University, 11 Divinity Avenue, Cambridge, MA 02138, telephone (617) 496-3702, before December 31, 2003. Repatriation of the unassociated funerary objects to the Wampanoag Repatriation Confederation on behalf of the Wampanoag Tribe of Gay Head (Aquinnah) of Massachusetts, Mashpee Wampanoag Indian Tribe (a nonfederally recognized Indian group), and Assonet Band of the Wampanoag Nation (a nonfederally recognized Indian group) may proceed after that date if no additional claimants come forward.

The Peabody Museum of Archaeology and Ethnology is responsible for notifying the Wampanoag Repatriation Confederation, Wampanoag Tribe of Gay Head (Aquinnah) of Massachusetts, Mashpee Wampanoag Indian Tribe (a nonfederally recognized Indian group), and Assonet Band of the Wampanoag Nation (a nonfederally recognized Indian group) that this notice has been published.

Dated: October 27, 2003.
John Robbins,
Assistant Director, Cultural Resources.

[FR Doc. 03-29769 Filed 11-28-03; 8:45 am]

BILLING CODE 4310-50-S